INTER-AMERICAN FOUNDATION

Sunshine Act Meetings

TIME AND DATE: July 31, 2019, 11:00 a.m.-12:30 p.m.

PLACE: Via tele-conference hosted at, Inter-American Foundation, 1331 Pennsylvania Ave., Suite 1200, NW, Washington, DC 20004.

STATUS: Meeting of the Board of Directors, Open to the public.

MATTERS TO BE CONSIDERED:

Call to Order

Management Report

IAF's 50th Anniversary

New Staff

Board Matters

Adjournment

For Dial-In Information Contact: Karen Vargas, Executive Assistant, (202) 524-8869.

CONTACT PERSON FOR MORE INFORMATION: Paul Zimmerman, General Counsel, (202) 683-7118.

Paul Zimmerman,
General Counsel.

[FR Doc. 2019-15740 Filed 7-19-19; 4:15 pm]

BILLING CODE 7025-01-P